DEPARTMENT OF ENERGY

Federal Energy Regulatory Commission

[Project No. 2000-036 NY]

Power Authority of the State of New York; Notice of Site Visit

June 21, 2002.

On July 10 and July 11, 2002, the Office of Energy Projects Staff (Staff) will participate in an on-site visit of the St. Lawrence-FDR Power Project on the St. Lawrence River near Massena, in St. Lawrence County, New York. On July 10, 2002, the site visit will begin at 8:30 a.m., meeting at the New York Power Authority (NYPA) Robert Moses Powerhouse. The site visit conducted on July 11, 2002 is intended for Staff only, to view areas in the project vicinity by boat. Staff will be touring the project vicinity by boat on July 11, 2002. Due to public safety concerns and ex parte limitations, Staff will not be able to provide boating access for others.

All interested parties and individuals are welcome to attend the site visit on July 10, 2002. Individuals interested in participating in the site tour on July 10, 2002 must provide their own transportation. Those planning to attend must contact Susan O'Brien at (202) 219-2840 or susan.obrien@ferc.gov no later than July 5, 2002.

Linwood A. Watson, Jr.,
Deputy Secretary.

[FR Doc. 02-16251 Filed 6-26-02; 8:45 am]

BILLING CODE 6717-01-P